DEPARTMENT OF COMMERCE

National Oceanic and Atmospheric Administration

50 CFR Part 679

[Docket No. 070213033-7033-01]

RIN 0648-XC55

Fisheries of the Exclusive Economic Zone Off Alaska; Reallocation of Pacific Cod in the Bering Sea and Aleutian Islands Management Area

AGENCY: National Marine Fisheries Service (NMFS), National Oceanic and Atmospheric Administration (NOAA), Commerce.

ACTION: Temporary rule; reallocation.

SUMMARY: NMFS is reallocating the projected unused amount of Pacific cod from catcher vessels using trawl and vessels using jig gear to catcher processor vessels using hook-and-line gear and vessels using pot gear in the Bering Sea and Aleutian Islands management area (BSAI). These actions are necessary to allow the 2007 total allowable catch (TAC) of Pacific cod to be harvested.

DATES: Effective September 13, 2007, until 2400 hours, A.l.t., December 31, 2007.

FOR FURTHER INFORMATION CONTACT: Jennifer Hogan, 907-586-7228.

SUPPLEMENTARY INFORMATION: NMFS manages the groundfish fishery in the BSAI according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2007 Pacific cod TAC in the BSAI is 170,720 metric tons (mt) as established by the 2007 and 2008 final harvest specifications for groundfish in the BSAI (72 FR 9451, March 2, 2007). Pursuant to § 679.20(a)(7)(i), the allocations of the Pacific cod TAC are 240 mt to catcher vessels using hook-and-line gear, 64,030 mt to catcher processor vessels using hook-and-line gear, 2,641 mt to catcher processor vessels using pot gear, 12,006 mt to catcher vessels using pot gear, 37,110 mt to catcher processors using trawl gear, and 37,110 mt to catcher vessels using trawl gear. The allocation to catcher vessels less than 60 feet (18.3 m) LOA using hook-and-line or pot gear is 2,853 mt and to vessels using jig gear is 1,426 mt after two reallocations (72 FR 10428, March 8, 2007 and 72 FR 18595, April 13, 2007).

As of September 5, 2007, the Administrator, Alaska Region, NMFS (Regional Administrator), has determined that catcher vessels using trawl gear will not be able to harvest 3,000 mt of the allocation under § 679.20(a)(7)(i)(B). Therefore, in accordance with § 679.20(a)(7)(ii)(C)(2), NMFS apportions 2,850 mt of Pacific cod from catcher vessels using trawl gear to catcher processor vessels using hook-and-line gear, 27 mt of Pacific cod to catcher processor vessels using pot gear, and 123 mt of Pacific cod to catcher vessels using pot gear.

The Regional Administrator has also determined that vessels using jig gear will not harvest 1,300 mt of their Pacific cod allocation by the end of the year. Therefore, in accordance with § 679.20(a)(7)(ii)(C)(1), NMFS is reallocating 75 mt of Pacific cod to catcher vessels less than 60 feet (18.3 m) length overall (LOA) using hook-and-line or pot gear. The Regional Administrator has determined that catcher vessels less than 60 feet (18.3 m) LOA using hook-and-line or pot gear will not be able to harvest the remaining amount of the available reallocation. Therefore, in accordance with § 679.20(a)(7)(ii)(B), NMFS is reallocating the unused amount of 1,225 mt of Pacific cod allocated to vessels using jig gear to catcher processor vessels using hook-and-line gear.

The harvest specifications for Pacific cod included in the harvest specifications for groundfish in the BSAI (72 FR 9451, March 2, 2007) and adjustments (72 FR 10428, March 8, 2007 and 72 FR 18595, April 13, 2007) are revised as follows: 126 mt to vessels using jig gear, 68,105 mt to catcher processor vessels using hook-and-line gear, 12,129 mt to catcher vessels using pot gear, 2,668 mt to catcher processor vessels using pot gear, 34,110 mt to catcher vessels using trawl gear, and 2,928 mt to catcher vessels less than 60 feet (18.3 m) LOA using hook-and-line or pot gear.

Classification

This action responds to the best available information recently obtained from the fishery. The Assistant Administrator for Fisheries, NOAA, (AA) finds good cause to waive the requirement to provide prior notice and opportunity for public comment pursuant to the authority set forth at 5 U.S.C. 553(b)(B) as such a requirement is impracticable and contrary to the public interest. This requirement is impracticable and contrary to the public interest as it would prevent NMFS from responding to the most recent fisheries data in a timely fashion and would delay the reallocation of projected unused amounts of Pacific cod in the BSAI. NMFS was unable to publish a notice providing time for public comment because the most recent, relevant data only became available as of September 5, 2007.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: September 11, 2007.
Alan D. Risenhoover
Director, Office of Sustainable Fisheries, National Marine Fisheries Service.

[FR Doc. E7-18174 Filed 9-13-07; 8:45 am]

BILLING CODE 3510-22-S